DEPARTMENT OF COMMERCE

National Oceanic and Atmospheric Administration

[I.D. 091801B]

Endangered Species; Permits

AGENCY: National Marine Fisheries Service (NMFS), National Oceanic and Atmospheric Administration (NOAA), Commerce.

ACTION: Receipt of request to modify research permit 1245 and 1324.

SUMMARY: Notice is hereby given of the following actions regarding permits for takes of endangered and threatened species for the purposes of scientific research and/or enhancement under the Endangered Species Act (ESA): NMFS has received a request to modify permit (1245) from Mr. J. David Whitaker, of South Carolina Department of Natural Resources (SCDNR) and a request to modify permit (1324) from Dr. Nancy Thompson, of the NMFS-Southeast Fisheries Science Center.

DATES: Comments or requests for a public hearing on any of the new applications or modification requests must be received at the appropriate address or fax number no later than 5 p.m. eastern standard time on October 29, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Modification Requests Received

Permit 1245

The applicant requests a modification to Permit 1245. Permit 1245 authorizes the take, via capture, handling, tagging, sampling, and release of 250 loggerhead, 50 Kemp's ridley, 10 green, one leatherback, and 5 hawksbill turtles. Modification #3 would extend the expiration date to October 31, 2004 without an increase in the authorized annual take.

The goal of the research is to establish a scientifically-valid indices of abundance for the northern sub-population of the threatened loggerhead turtle and the endangered Kemp's ridley, green and leatherback sea turtles which occur in the Atlantic Ocean off the southeastern United States. This study is intended to capture juveniles and adults, thereby providing a more comprehensive assessment of total population abundance and an assessment of the health of individual animals.

Permit 1324

The applicant requests a modification to Permit 1324. Permit 1324 authorizes the take of threatened and endangered species of sea turtles in the northeast distant statistical sampling area (NED) for the U.S. longline fishery. The purpose of the research is to develop and test methods to reduce bycatch of research that occurs incidental to commercial, pelagic longline fishing. The researchers propose to work cooperatively with U.S. pelagic longline fishermen in the NED area to conduct this fishery-dependent testing. The fishery dependent use of commercial fishing boats for this research is necessary because (1) a large level of fishing effort is necessary for the statistical power to complete this testing and fishery independent work would be cost-prohibitive and (2) testing should be conducted aboard a mix of representative platforms so that the testing results are clearly applicable to the fleets that would ultimately adopt bycatch reduction measures through this research.

Modification #1 would increase the authorized lethal take of leatherback turtle from one to two over the life of the permit and to increase the authorized lethal take of green, hawksbill, and Kemp's ridley turtles, in combination, from one to two. The permit holder has requested this modification to prevent the introduction of confounding of year and season effects that could result in a shutdown due to meeting lethal take limits authorized in the original permit.

Dated: September 20, 2001.
Phil Williams,
Acting Chief, Endangered Species Division, Office of Protected Resources, National Marine Fisheries Service.

[FR Doc. 01-24222 Filed 9-26-01; 8:45 am]

BILLING CODE 3510-22-S